DEPARTMENT OF VETERANS AFFAIRS

Special Medical Advisory Group, Notice of Meeting

The Department of Veterans Affairs (VA) gives notice under the Federal Advisory Committee Act that the Special Medical Advisory Group will meet on October 11, 2018 at the VHA National Conference Center, 2011 Crystal Drive, Suite 150 A, Potomac Room A-B, Crystal City, Arlington, VA 22202, from 8:15 a.m. to 3:30 p.m. EST. The meeting is open to the public.

The purpose of the Committee is to advise the Secretary of Veterans Affairs and the Under Secretary for Health on the care and treatment of Veterans, and other matters pertinent to the Veterans Health Administration (VHA).

The agenda for the meeting will include discussions on Community Care, Telehealth Expansion, Supply Chain Modernization, and Innovation for Care and Payment.

There will not be a public comment period, however, members of the public may submit written statements for review by the Committee to: Department of Veterans Affairs, Office of Under Secretary for Health (10), Veterans Health Administration, 810 Vermont Avenue NW, Washington, DC 20420 or by email at VASMAGDFO@va.gov. Comments will be accepted until close of business on October 9, 2018.

Any member of the public wishing to attend the meeting or seeking additional information should email VASMAGDFO@va.gov or call 202-461-7005.

Dated: September 18, 2018.
LaTonya L. Small,
Federal Advisory Committee Management Officer.

[FR Doc. 2018-20642 Filed 9-21-18; 8:45 am]

BILLING CODE P